DEPARTMENT OF DEFENSE

Department of the Navy

Record of Decision for Construction and Operation of a Marine Corps Heritage Center at Marine Corps Base Quantico, VA

AGENCY: Department of the Navy, DOD.

ACTION: Notice of record of decision.

SUMMARY: The Department of the Navy, pursuant to section 102(2)(c) of the National Environmental Policy Act and the regulations (40 CFR parts 1500-1508), announces its decision to construct and operate the Marine Corps Heritage Center on the Locust Shade Park site.

ADDRESSES: A copy of the Environmental Impact Statement (EIS) addressing this decision may be obtained from Engineering Field Activity Chesapeake, Naval Facilities Engineering Command, 1314 Harwood Street, SE, Building 212, Washington Navy Yard, DC 20374-5018.

FOR FURTHER INFORMATION CONTACT: Mr. Hank Reik, telephone (202) 685-3064.

SUPPLEMENTARY INFORMATION: The Marine Corps History and Museum Division is responsible for the collection, preservation and presentation of information and material used in the study and development of military doctrine, tactics, weapons and equipment for the Marine Corps. Most of the Division's collections are located within various facilities at Marine Corps Base (MCB) Quantico (including the Marine Corps Air Ground Museum) while their administrative offices are located in the Washington Navy Yard, Washington, DC. The Division has acquired existing spaces over the years to house its collections, which has resulted in collections being stored in 11 different sites. To enhance protection of its historical collections, improve access to historical information, and foster public education and appreciation through exhibits, displays, outdoor ceremonies and demonstrations, the Marine Corps intends to promote the development of a Marine Corps Heritage Center at MCB Quantico.

The Heritage Center would consist of various buildings, outside exhibits, a parade field, demonstration areas and associated infrastructure on a 135-acre site. Less than half of the site would be developed, the rest would remain in its natural state. Buildings would be used for administrative offices, curatorial spaces, exhibits, public presentation facilities, record storage and restoration workshops. Development of the complex would be funded primarily through private donations. Construction is expected to occur in phases beginning in 2003.

The Marine Corps prepared an EIS to evaluate the anticipated effects of developing a Marine Corps Heritage Center and selecting a site for the facility. A Final EIS was distributed to the public on June 15, 2001. In response, five comment letters were received. All were supportive of the project at the preferred site. The Virginia Department of Environmental Quality requested a separate Consistency Determination be forwarded per regulations governing compliance with the Coastal Zone Management Act. A consistency determination was forwarded in response to the request. The Virginia Department of Environmental Quality concurred telephonically in this determination.

Alternatives evaluated in the EIS included three on-base sites, one off-base site, and no action. Siting criteria for the project included proximity to MCB Quantico to facilitate the relationship with on-base education programs and support functions, ready access to Interstate 95, and suitable size (about 100 acres) and setting appropriate for development of the complex. The preferred alternative, Locust Shade Park, is off-base. Prince William County will convey the property to the Department of the Navy for constructing and operating the Marine Corps Heritage Center.

The preferred alternative, Locust Shade Park, is also the environmentally preferred alternative. An erosion and sediment control plan and storm water management plan would be developed and implemented for the facility to control movement of soils and minimize potential effects to wetlands and water quality. The project will also comply, to the maximum extent practicable, with requirements identified in the Virginia Coastal Resources Management Program. A small wetland that exists near the northwest corner of the site will be avoided in siting project related components. No federally protected species occur on the site. The site does not contain cultural resources listed or eligible for listing on the National Register of Historic Places. A small cemetery is located in the northeast corner of the site. This cemetery will be avoided during construction activities. Construction and operation of the complex will result in an increase of air emissions; however, these emissions are below de minimus levels as identified in the Conformity regulations of the Clean Air Act. Traffic associated with the operation of the Heritage Center would be predominantly attributed to visitors and typically occur outside peak commuter periods. Although significant increases in traffic are projected to occur regardless of whether the Heritage Center is constructed, the addition of related vehicles from operation of the Heritage Center will not significantly add to these increases. All practicable means to avoid or minimize environmental harm from implementing construction and operation of the Heritage Center have been considered.

After considering the requirements of the Marine Corps, the potential environmental impacts of this action, social and economic concerns, and all comments received during the EIS process, I have determined that the Locust Shade Park site best meets the requirements of the proposed action and select that site as the location for the Marine Corps Heritage Center.

Dated: September 18, 2001.
Duncan Holaday,
Deputy Assistant Secretary of the Navy (Installations and Facilities).

[FR Doc. 01-23794 Filed 9-21-01; 8:45 am]

BILLING CODE 3810-FF-P